DEPARTMENT OF HOMELAND SECURITY

Federal Emergency Management Agency

[Docket ID FEMA-2021-0002; Internal Agency Docket No. FEMA-B-2132]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Glendale (20-09-1036P). | The Honorable Jerry Weiers, Mayor, City of Glendale, 5850 West Glendale Avenue, Glendale, AZ 85301. | City Hall, 5850 West Glendale Avenue, Glendale, AZ 85301. | https://msc.fema.gov/portal/advanceSearch. | May 7, 2021 | 040045
Maricopa | City of Peoria (20-09-1050P). | The Honorable Cathy Carlat, Mayor, City of Peoria, 8401 West Monroe Street, Peoria, AZ 85345. | City Hall, 8401 West Monroe Street, Peoria, AZ 85345. | https://msc.fema.gov/portal/advanceSearch. | Jul. 16, 2021 | 040050
Maricopa | City of Phoenix (20-09-1036P). | The Honorable Kate Gallego, Mayor, City of Phoenix, 200 West Washington Street, 11th Floor, Phoenix, AZ 85003. | Street Transportation Department, 200 West Washington Street, 5th Floor, Phoenix, AZ 85003. | https://msc.fema.gov/portal/advanceSearch. | May 7, 2021 | 040051
Pinal | City of Maricopa (20-09-0399P). | The Honorable Christian Price, Mayor, City of Maricopa, 39700 West Civic Center Plaza, Maricopa, AZ 85138. | City Hall, 39700 West Civic Center Plaza, Maricopa, AZ 85138. | https://msc.fema.gov/portal/advanceSearch. | May 21, 2021 | 040052
Pinal | Town of Florence (20-09-1409P). | The Honorable Tara Walter, Mayor, Town of Florence, P.O. Box 2670, Florence, AZ 85132. | Public Works Department, 224 West 20th Street, Florence, AZ 85132. | https://msc.fema.gov/portal/advanceSearch. | May 28, 2021 | 040084
Pinal | Unincorporated Areas of Pinal County (20-09-0399P). | The Honorable Stephen Q. Miller, Chairman, Board of Supervisors, Pinal County, P.O. Box 827, Florence, AZ 85132. | Pinal County Engineering Division, 31 North Pinal Street, Building F, Florence, AZ 85132. | https://msc.fema.gov/portal/advanceSearch. | May 21, 2021 | 040077
California:
Kern | City of Delano (21-09-0119P). | The Honorable Bryan Osorio, Mayor, City of Delano, 1015 11th Avenue, Delano, CA 93215. | Community Development, 1015 11th Avenue, Delano, CA 93215. | https://msc.fema.gov/portal/advanceSearch. | Jun. 1, 2021 | 060078
Kern | Unincorporated Areas of Kern County (21-09-0119P). | The Honorable Phillip Peters, Chairman, Board of Supervisors, Kern County, 115 Truxtun Avenue, 5th Floor, Bakersfield, CA 93301. | Kern County Planning Department, 2700 M Street, Suite 100, Bakersfield, CA 93301. | https://msc.fema.gov/portal/advanceSearch. | Jun. 1, 2021 | 060075
San Diego | Unincorporated Areas of San Diego County (20-09-2083P). | The Honorable Nathan Fletcher, Chairman, Board of Supervisors, San Diego County, 1600 Pacific Highway Room 335, San Diego, CA 92101. | San Diego County Flood Control District, Department of Public Works, 5510 Overland Avenue Suite 410, San Diego, CA 92123. | https://msc.fema.gov/portal/advanceSearch. | Jul. 19, 2021 | 060284
Santa Barbara | City of Goleta (21-09-0037P). | The Honorable Paula Perotte, Mayor, City of Goleta, 130 Cremona Drive, Suite B, Goleta, CA 93117. | City Hall, Planning and Environmental Review Department, 130 Cremona Drive Suite B, Goleta, CA 93117. | https://msc.fema.gov/portal/advanceSearch. | Jun. 3, 2021 | 060771
Santa Barbara | City of Santa, Barbara, (20-09-0769P). | The Honorable Cathy Murillo, Mayor, City of Santa Barbara, City Hall, 735 Anacapa Street, Santa Barbara, CA 93101. | Community Development Department, Building and Safety Division, 630 Garden Street, Santa Barbara, CA 93101. | https://msc.fema.gov/portal/advanceSearch. | Jul. 20, 2021 | 060335
Santa Barbara | City of Santa, Barbara (21-09-0037P). | The Honorable Cathy Murillo, Mayor, City of Santa Barbara, City Hall, 735 Anacapa Street, Santa Barbara, CA 93101. | Community Development Department, Building and Safety Division, 630 Garden Street, Santa Barbara, CA 93101. | https://msc.fema.gov/portal/advanceSearch. | Jun. 3, 2021 | 060335
Idaho:
Ada | City of Kuna (20-10-0884P). | The Honorable Joe Stear, Mayor, City of Kuna, City Hall, 751 West 4th Street, Kuna, ID 83634. | City Hall, 329 West 3rd Street, Kuna, ID 83642. | https://msc.fema.gov/portal/advanceSearch. | Jul. 22, 2021 | 160174
Ada | City of Meridian (20-10-1391P). | The Honorable Robert Simison, Mayor, City of Meridian, Meridian City Hall, 33 East Broadway Avenue, Suite 300, Meridian, ID 83642. | Public Works Department, 33 East Broadway Avenue, Suite 200, Meridian, ID 83642. | https://msc.fema.gov/portal/advanceSearch. | Jul. 26, 2021 | 160180
Ada | Unincorporated Areas of Ada County (20-10-0884P). | Mr. Rod Beck, Chairman, Ada County Board of County Commissioners, Ada County Courthouse, 200 West Front Street, 3rd Floor, Boise, ID 83702. | Ada County Courthouse, 200 West Front Street, Boise, ID 83702. | https://msc.fema.gov/portal/advanceSearch. | Jul. 22, 2021 | 160001
Ada | Unincorporated Areas of Ada County (20-10-1391). | Mr. Rod Beck, Chairman, Ada County Board of County Commissioners, Ada County Courthouse, 200 West Front Street, 3rd Floor, Boise, ID 83702. | Ada County Courthouse, 200 West Front Street, Boise, ID 83702. | https://msc.fema.gov/portal/advanceSearch. | Jul. 26, 2021 | 160001
Blaine | Unincorporated Areas of Blaine County (20-10-1303P). | Mr. Jacob Greenberg, Chairman, Board of County Commissioners, Blaine County, 206 South 1st Avenue Suite 300, Hailey, ID 83333. | Blaine County Planning & Zoning, 219 South lst Avenue, Suite 208, Hailey, ID 83333. | https://msc.fema.gov/portal/advanceSearch. | Jul. 29, 2021 | 165167
Indiana:
Lake | City of Crown Point (20-05-3995P). | The Honorable David Uran, Mayor, City of Crown Point, 101 North East Street, Crown Point, IN 46307. | City Hall, 101 North East Street, Crown Point, IN 46307. | https://msc.fema.gov/portal/advanceSearch. | Jul. 23, 2021 | 180128
Noble | Unincorporated Areas of Noble County (21-05-0893P). | The Honorable Gary Leatherman, President, Noble County Board of Commissioners, Noble County Courthouse, 101 North Orange Street, Albion, IN 46701. | Noble County South Complex, 2090 North State Road 9, Suite 2, Albion, IN 46701. | https://msc.fema.gov/portal/advanceSearch. | Jul. 23, 2021 | 180183
Iowa: Polk | City of Urbandale (21-07-0009P). | The Honorable Bob Andeweg, Mayor, City of Urbandale, City Hall, 3600 86th Street, Urbandale, IA 50322. | City Hall, 3600 86th Street, Urbandale, IA 50322. | https://msc.fema.gov/portal/advanceSearch. | Jul. 26, 2021 | 190230
Nevada: Clark | City of Henderson (20-09-1687P). | The Honorable Debra March, Mayor, City of Henderson, 240 South Water Street, Henderson, NV 89015. | Public Works Department, 240 South Water Street, Henderson, NV 89015. | https://msc.fema.gov/portal/advanceSearch. | Apr. 29, 2021 | 320005
New York: Westchester | City of Rye (20-02-1384P). | The Honorable Josh Cohn, Mayor, City of Rye, City Hall, 1051 Boston Post Road, Rye, NY 10580. | City Hall, 1051 Boston Post Road, Rye, NY 10580. | https://msc.fema.gov/portal/advanceSearch. | Sep. 24, 2021 | 360931
Texas: Hunt | City of Greenville (20-06-2492P). | The Honorable David Dreiling, Mayor, City of Greenville, 2821 Washington Street, Greenville, TX 75401. | City Hall, 2821 Washington Street, Greenville, TX 75401. | https://msc.fema.gov/portal/advanceSearch. | Jul. 14, 2021 | 485473
Wisconsin:
Brown | Unincorporated Areas of Brown County (20-05-2406P). | Mr. Troy Streckenbach, County Executive, Brown County, P.O. Box 23600, Green Bay, WI 54305. | Zoning Office, 305 East Walnut Street, Green Bay, WI 54301. | https://msc.fema.gov/portal/advanceSearch. | Aug. 2, 2021 |
Brown | Village of Pulaski (20-05-2406P). | The Honorable Reed A. Woodward, Mayor, Village of Pulaski, P.O. Box 320, Pulaski, WI 54162. | Village Hall, 421 South St. Augustine Street, Pulaski, WI 54162. | https://msc.fema.gov/portal/advanceSearch. | Aug. 2, 2021 | 550024
La Crosse | Unincorporated Areas of La Crosse County (21-05-0431P). | Ms. Monica Kruse, Chair, La Crosse County Board, Administrative Center, 212 6th Street North, La Crosse, WI 54601. | La Crosse County Administration Center, 400 4th Street North, Room 3260, La Crosse, WI 54601. | https://msc.fema.gov/portal/advanceSearch. | Aug. 5, 2021 | 550217

[FR Doc. 2021-09628 Filed 5-6-21; 8:45 am]

BILLING CODE 9110-12-P